DEPARTMENT OF ENERGY

Federal Energy Regulatory Commission

Combined Notice of Filings #2

Take notice that the Commission received the following electric rate filings:

Docket Numbers: ER25-1989-000.

Applicants: Great Bend Solar, LLC.

Description: Errata to 04/17/2025, Great Bend Solar, LLC, tariff filing.

Filed Date: 5/1/25.

Accession Number: 20250501-5191.

Comment Date: 5 p.m. ET 5/22/25.

Docket Numbers: ER25-2123-000.

Applicants: PJM Interconnection, L.L.C.

Description: § 205(d) Rate Filing: Black Start Service Base Formula Rate and Capital Cost Recovery Rate to be effective 7/1/2025.

Filed Date: 4/30/25.

Accession Number: 20250430-5491.

Comment Date: 5 p.m. ET 5/21/25.

Docket Numbers: ER25-2124-000.

Applicants: Entergy Louisiana, LLC.

Description: § 205(d) Rate Filing: ELL-NEEM (Concordia) WDS Agreement to be effective 4/1/2025.

Filed Date: 4/30/25.

Accession Number: 20250430-5537.

Comment Date: 5 p.m. ET 5/21/25.

Docket Numbers: ER25-2125-000.

Applicants: Entergy Louisiana, LLC.

Description: § 205(d) Rate Filing: ELL-NEEM (Pt. Coupee) WDS Agreement to be effective 4/1/2025.

Filed Date: 4/30/25.

Accession Number: 20250430-5540.

Comment Date: 5 p.m. ET 5/21/25.

Docket Numbers: ER25-2126-000.

Applicants: Entergy Louisiana, LLC.

Description: § 205(d) Rate Filing: ELL-1803 WDS Agreement to be effective 4/1/2025.

Filed Date: 4/30/25.

Accession Number: 20250430-5545.

Comment Date: 5 p.m. ET 5/21/25.

Docket Numbers: ER25-2127-000.

Applicants: KODA Energy, LLC.

Description: § 205(d) Rate Filing: Koda Energy MBR Filing to be effective 5/1/2025.

Filed Date: 5/1/25.

Accession Number: 20250501-5000.

Comment Date: 5 p.m. ET 5/22/25.

Docket Numbers: ER25-2128-000.

Applicants: Southwest Power Pool, Inc.

Description: § 205(d) Rate Filing: 4180R1 Breckinridge Energy Storage Surplus Inter GIA to be effective 6/30/2025.

Filed Date: 5/1/25.

Accession Number: 20250501-5001.

Comment Date: 5 p.m. ET 5/22/25.

Docket Numbers: ER25-2129-000.

Applicants: Commonwealth Edison Company.

Description: § 205(d) Rate Filing: ComEd submits Amendment to Attachment H-13A to be effective 5/1/2023.

Filed Date: 5/1/25.

Accession Number: 20250501-5092.

Comment Date: 5 p.m. ET 5/22/25.

Docket Numbers: ER25-2130-000.

Applicants: PJM Interconnection, L.L.C.

Description: § 205(d) Rate Filing: Amendment to Service Agreement No. 7337; Project Identifier No. AF2-238 to be effective 7/1/2025.

Filed Date: 5/1/25.

Accession Number: 20250501-5110.

Comment Date: 5 p.m. ET 5/22/25.

Docket Numbers: ER25-2131-000.

Applicants: PJM Interconnection, L.L.C.

Description: § 205(d) Rate Filing: NSA, Original Service Agreement No. 7671; Queue No. AF1-254 to be effective 7/1/2025.

Filed Date: 5/1/25.

Accession Number: 20250501-5118.

Comment Date: 5 p.m. ET 5/22/25.

Docket Numbers: ER25-2132-000.

Applicants: Entergy Arkansas, LLC, Entergy Louisiana, LLC, Entergy Mississippi, LLC, Entergy New Orleans, LLC, Entergy Texas, Inc.

Description: Post-Retirement Benefits Other than Pensions for 2024 Calendar Year of Entergy Arkansas, LLC, et al.

Filed Date: 5/1/25.

Accession Number: 20250501-5154.

Comment Date: 5 p.m. ET 5/22/25.

Docket Numbers: ER25-2133-000.

Applicants: Midcontinent Independent System Operator, Inc., Union Electric Company.

Description: § 205(d) Rate Filing: Union Electric Company submits tariff filing per 35.13(a)(2)(iii: 2025-05-01_Union Electric dba Ameren Missouri Revision to Depreciation Rates to be effective 6/1/2025.

Filed Date: 5/1/25.

Accession Number: 20250501-5144.

Comment Date: 5 p.m. ET 5/22/25.

Docket Numbers: ER25-2134-000.

Applicants: Entergy Arkansas, LLC, Entergy Louisiana, LLC, Entergy Mississippi, LLC, Entergy New Orleans, LLC, Entergy Texas, Inc.

Description: Annual Informational Filing regarding Prepaid Pension Cost and Accrued Pension Cost of Entergy Arkansas, LLC, et al.

Filed Date: 5/1/25.

Accession Number: 20250501-5157.

Comment Date: 5 p.m. ET 5/22/25.

Docket Numbers: ER25-2135-000.

Applicants: System Energy Resources, Inc.

Description: Annual Informational Filing regarding Prepaid Pension Cost and Accrued Pension Cost of System Energy Resources, Inc.

Filed Date: 5/1/25.

Accession Number: 20250501-5165.

Comment Date: 5 p.m. ET 5/22/25.

Docket Numbers: ER25-2136-000.

Applicants: Oklahoma Gas and Electric Company, Southwest Power Pool, Inc.

Description: § 205(d) Rate Filing: Oklahoma Gas and Electric Company submits tariff filing per 35.13(a)(2)(iii: Revisions to Formula Rate Template for Oklahoma Gas & Electric Company to be effective 7/1/2025.

Filed Date: 5/1/25.

Accession Number: 20250501-5168.

Comment Date: 5 p.m. ET 5/22/25.

Docket Numbers: ER25-2138-000.

Applicants: Engelhart CTP Energy Marketing, LLC.

Description: Tariff Amendment: MBR Cancellation of Trailstone Energy (Engelhart Energy) to be effective 1/29/2025.

Filed Date: 5/1/25.

Accession Number: 20250501-5239.

Comment Date: 5 p.m. ET 5/22/25.

Take notice that the Commission received the following electric securities filings:

Docket Numbers: ES25-46-000.

Applicants: Tri-State Generation and Transmission Association, Inc.

Description: Application Under Section 204 of the Federal Power Act for Authorization to Issue Securities of Tri-State Generation and Transmission Association, Inc.

Filed Date: 4/29/25.

Accession Number: 20250429-5376.

Comment Date: 5 p.m. ET 5/20/25.

Docket Numbers: ES25-47-000.

Applicants: Golden Spread Electric Cooperative.

Description: Application Under Section 204 of the Federal Power Act for Authorization to Issue Securities of Golden Spread Electric Cooperative, Inc.

Filed Date: 5/1/25.

Accession Number: 20250501-5189.

Comment Date: 5 p.m. ET 5/22/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 1, 2025.
Carlos D. Clay,
Deputy Secretary.

[FR Doc. 2025-07953 Filed 5-6-25; 8:45 am]

BILLING CODE 6717-01-P